DEPARTMENT OF THE TREASURY

Internal Revenue Service

26 CFR Part 1

[REG-120186-18]

RIN 1545-BP04

Investing in Qualified Opportunity Funds

Correction

In proposed rule document 2019-08075 beginning on page 18652 in the issue of Wednesday, May 1, 2019 make the following correction:

On pages 18652 through 18693 the date at the top of the page should read “Wednesday, May 1, 2019”.

[FR Doc. C1-2019-08075 Filed 5-20-19; 8:45 am]

BILLING CODE 1301-00-D